DEPARTMENT OF THE INTERIOR

Bureau of Indian Affairs

[201A2100DD/AAKC001030/A0A501010.999900253G]

Indian Gaming; Tribal-State Class III Gaming Compacts Taking Effect in the State of Oklahoma

AGENCY: Bureau of Indian Affairs, Interior.

ACTION: Notice.

SUMMARY: On July 1, 2020, the Kialegee Tribal Town, and the United Keetoowah Band of Cherokee Indians in Oklahoma, respectively, submitted compacts with the State of Oklahoma governing certain forms of Class III gaming. This notice announces that the Kialegee Tribal Town and State of Oklahoma Gaming Compact and the United Keetoowah Band of Cherokee Indians and State of Oklahoma Gaming Compact are taking effect.

DATES: The compacts take effect September 8, 2020.

FOR FURTHER INFORMATION CONTACT: Ms. Paula L. Hart, Director, Office of Indian Gaming, Office of the Deputy Assistant Secretary—Policy and Economic Development, Washington, DC 20240, paula.hart@bia.gov, (202) 219-4066.

SUPPLEMENTARY INFORMATION: Under section 11 of the Indian Gaming Regulatory Act (IGRA), Public Law 100-497, 25 U.S.C. 2701 et seq., the Secretary of the Interior shall publish in the Federal Register notice of approved Tribal-State compacts for the purpose of engaging in Class III gaming activities on Indian lands. As required by 25 CFR 293.4, all compacts are subject to review and approval by the Secretary. The Secretary took no action on the Kialegee Tribal Town and State of Oklahoma Gaming Compact and the United Keetoowah Band of Cherokee Indians and State of Oklahoma Gaming Compact within 45 days of their submission. Therefore, the Compacts are considered to have been approved, but only to the extent they are consistent with IGRA. See 25 U.S.C. 2710(d)(8)(C).

Tara Sweeney,
Assistant Secretary—Indian Affairs.

[FR Doc. 2020-19707 Filed 9-4-20; 8:45 am]

BILLING CODE 4337-15-P